DEPARTMENT OF COMMERCE

U.S. Census Bureau

Proposed Information Collection; Comment Request; Annual Retail Trade Survey

AGENCY: U.S. Census Bureau.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before June 16, 2008.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument(s) and instructions should be directed to John Trimble, U.S. Census Bureau, SSSD HQ-8K175, 4600 Silver Hill Road, Suitland, MD 20746 at (301) 763-7223 (or via the Internet at John.R.Trimble@census.gov).

SUPPLEMENTARY INFORMATION:

I. Abstract

The Annual Retail Trade Survey (ARTS) provides a sound statistical basis for the formation of policy by other government agencies. It also provides continuing and timely national statistics on retail trade and accommodation and food services, augmenting the period between economic censuses, and is a continuation of similar retail trade surveys conducted each year since 1951. The data collected are applicable to a variety of public and business needs and include annual sales and other operating receipts, e-commerce sales and other operating receipts, purchases, end-of-year inventories, accounts receivables, and operating expenses. Data items collected for accommodation and food services are annual receipts and e-commerce receipts. The estimates of purchased merchandise will be used to estimate trade margins on commodities sold in calculating the personal consumption portion of the Gross Domestic Product (GDP) by the Bureau of Economic Analysis (BEA). Accounts receivable balances are used by the Federal Reserve Board in measuring consumer credit. Businesses use these estimates to determine market share and to perform other analysis.

The ARTS sampling frame consists of all firms operating retail or accommodations and food service establishments within the U.S. whose probability of selection is determined by sales size. Estimates developed in the ARTS are used to benchmark the monthly sales and inventories series. The firms canvassed in this survey are not required to maintain additional records since carefully prepared estimates are acceptable if book figures are not available.

Estimates produced from the ARTS are published on the North American Industry Classification System (NAICS) basis.

II. Method of Collection

ARTS data are collected through mail, fax, and telephone follow-up. In January 2006, we began offering the option to submit data over the Internet using the Census Taker system.

III. Data

OMB Control Number: 0607-0013.

Form Number: SA-44, SA-44A, SA-44C, SA-44E, SA-44N, SA-44S, SA-45, SA-45C, SA-721A, SA-721E, SA-722A, and SA-722E.

Type of Review: Regular submission.

Affected Public: Business or other for-profit organizations.

Estimated Number of Respondents: 21,635.

Estimated Time Per Response: 34 minutes.

Estimated Total Annual Burden Hours: 12,260.

Estimated Total Annual Cost: $0.

Respondents Obligation: Mandatory.

Legal Authority: Title 13 United States Code, Section 182, 224, and 225.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: April 10, 2008.
Gwellnar Banks,
Management Analyst, Office of the Chief Information Officer.

[FR Doc. E8-8012 Filed 4-14-08; 8:45 am]

BILLING CODE 3510-07-P